DEPARTMENT OF HOMELAND SECURITY

Coast Guard

46 CFR Parts 115, 170, 176, and 178

[USCG-2007-0030]

RIN 1625-AB20

Passenger Weight and Inspected Vessel Stability Requirements

AGENCY: Coast Guard, DHS.

ACTION: Rule; information collection approval.

SUMMARY: On December 14, 2010, the Coast Guard amended its regulations governing the maximum weight and number of passengers that may safely be permitted on board a vessel and other stability regulations, including increasing the Assumed Average Weight per Person (AAWPP) to 185 lb. The amendment triggered new information collection requirements affecting documentation needed from certain inspected vessels as part of the Coast Guard commercial vessel safety program. This document announces that the Office of Management and Budget (OMB) approved changes to the collections of information with control numbers 1625-0057 and 1625-0064, which will now be enforced.

DATES: Changes to the collection of information requirements with OMB control numbers 1625-0057 and 1625-0064 will be enforced under 46 CFR parts 115, 170, 176, and 178 beginning April 7, 2011.

FOR FURTHER INFORMATION CONTACT: If you have questions about this document, contact Mr. William Peters at 202-372-1371 or William.S.Peters@uscg.mil. If you have questions about viewing the docket (USCG-2007-0030), call Ms. Renee V. Wright, Program Manager, Docket Operations, telephone 202-366-9826.

SUPPLEMENTARY INFORMATION: With the exception of revised collection of information provisions, the Passenger Weight and Inspected Vessel Stability Requirements rule became effective on March 14, 2011. Under the Paperwork Reduction Act of 1995 (44 U.S.C. 3501-3520), an agency may not conduct or sponsor a collection of information until the collection is approved by OMB. Accordingly, the preamble to the final rule stated that the Coast Guard would not enforce the new collection of information requirements in 46 CFR parts 115, 170, 176, and 178 until the collection of information requests were approved by OMB, and also stated that the Coast Guard would publish a notice in the Federal Register announcing the effective date of those requirements after OMB approved the collections.

The Coast Guard submitted the information collection requests to OMB for approval in accordance with the Paperwork Reduction Act of 1995. OMB approved the collections of information on March 4, 2011, for 1625-0064, and on March 14, 2011, for 1625-0057. The approval for these collections of information expires on March 31, 2014. Copies of the OMB notices of action are available in our online docket (USCG-2007-0030) at http://www.regulations.gov.

Dated: March 30, 2011.
F.J. Sturm,
Acting Director of Commercial Regulations and Standards, U.S. Coast Guard.

[FR Doc. 2011-8119 Filed 4-6-11; 8:45 am]

BILLING CODE 9110-04-P